DEPARTMENT OF DEFENSE

48 CFR Part 215

[DFARS Case 2000-D013]

Defense Federal Acquisition Regulation Supplement; Uncompensated Overtime Source Selection Factor

AGENCY: Department of Defense (DoD).

ACTION: Final rule.

SUMMARY: The Director of Defense Procurement has issued a final rule amending the Defense Federal Acquisition Regulation Supplement (DFARS) to remove text pertaining to the evaluation of uncompensated overtime hours in proposals for service contracts. The DFARS text duplicates text found in the Federal Acquisition Regulation (FAR).

EFFECTIVE DATE: June 27, 2000.

FOR FURTHER INFORMATION CONTACT: Ms. Kathleen Fenk, Defense Acquisition Regulations Council, OUSD (AT&L)DP(DAR), IMD 3D139, 3062 Defense Pentagon, Washington, DC 20301-3062. Telephone (703) 602-0296; telefax (703) 602-0350. Please cite DFARS Case 2000-D013.

SUPPLEMENTARY INFORMATION:

A. Background

This final rule removes the text at DFARS 215.305(a)(1) pertaining to the evaluation of uncompensated overtime hours in proposals for service contracts. The DFARS text duplicates the text found at FAR 37.115-2(c).

This rule was not subject to Office of Management and Budget review under Executive Order 12866, dated September 30, 1993.

B. Regulatory Flexibility Act

This final rule does not constitute a significant revision within the meaning of FAR 1.501 and Public Law 98-577 and publication for public comment is not required. However, DoD will consider comments from small entities concerning the affected DFARS subpart in accordance with 5 U.S.C. 610. Such comments should cite DFARS Case 2000-D013.

C. Paperwork Reduction Act

The Paperwork Reduction Act does not apply because the rule does not impose any information collection requirements that require the approval of the Office of Management and Budget under 44 U.S.C. 3501, et seq.

List of Subjects in 48 CFR Part 215

Government procurement.

Michele P. Peterson,
Executive Editor, Defense Acquisition Regulations Council.

Therefore, 48 CFR Part 215 is amended as follows:

1. The authority citation for 48 CFR Part 215 continues to read as follows:

Authority: 41 U.S.C. 421 and 48 CFR Chapter 1.

PART 215—CONTRACTING BY NEGOTIATION

215.305 [Amended]

2. Section 215.305 is amended by removing paragraph (a)(1).

[FR Doc. 00-15816 Filed 6-26-00; 8:45 am]

BILLING CODE 5000-04-M